DEPARTMENT OF EDUCATION

Office of Elementary and Secondary Education Indian Education—Demonstration Grants for Indian Children Catalog of Federal Domestic Assistance (CFDA) Number: 84.299A.

ACTION: Correction; Notice inviting applications for new awards for fiscal year (FY) 2010.

SUMMARY: On December 3, 2009, we published in the Federal Register (74 FR 63398) a notice inviting applications for new awards for FY 2010. The notice specified a deadline date of February 18, 2010 for the submission of applications. Since publication, however, we have learned that the Department's e-Application system will be shut down for a system update from February 10, 2010 through February 15, 2010. Therefore, in order to give applicants adequate time to submit their application packages, we are changing the deadline for the submission of applications to February 25, 2010. With this change in the deadline date, we are also changing the deadline date for intergovernmental review.

The specific changes to be made are as follows:

On page 63398, first column, the date listed for Deadline for Transmittal of Applications is changed to read “February 25, 2010.”

On page 63398, first column, the date listed for Deadline for Intergovernmental Review is changed to read “April 26, 2010.”

On page 63399, second column, the date listed for Deadline for Transmittal of Applications is changed to read “February 25, 2010.”

On page 63399, second column, the date listed for Deadline for Intergovernmental Review is changed to read “April 26, 2010.”

FOR FURTHER INFORMATION CONTACT: Lana Shaughnessy, U.S. Department of Education, Office of Indian Education, 400 Maryland Avenue, SW., room 3E231, Washington, DC 20202-6135. Telephone: (202) 205-2528, or by e-mail: Lana.Shaughnessy@ed.gov.

If you use a telecommunications device for the deaf (TDD), call the Federal Relay Service (FRS), toll free, at 1-800-877-8339.

Accessible Format: Individuals with disabilities can obtain this document in an accessible format (e.g., braille, large print, audiotape, or computer diskette) on request to the program contact person listed under FOR FURTHER INFORMATION CONTACT in this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: February 3, 2010.
Thelma Meléndez de Santa Ana,
Assistant Secretary for Elementary and Secondary Education.

[FR Doc. 2010-2690 Filed 2-5-10; 8:45 am]

BILLING CODE 4000-01-P